DEPARTMENT OF JUSTICE

28 CFR Part 16

[OAG Docket No. 140; AG Order No. 3296-2011]

RIN 1105-AB27

Revision of Department of Justice Freedom of Information Act Regulations

AGENCY: Department of Justice.

ACTION: Notice of proposed rulemaking; reopening of comment period.

SUMMARY: On March 21, 2011, the Department of Justice published a proposed rule revising its existing regulations under the Freedom of Information Act. The comment period for that rule closed on April 20, 2011. The Department is reopening the comment period for an additional 30-day period.

DATES: The comment period for the NRPM published on March 21, 2011 (76 FR 15236), closed on April 20, 2011. This document reopens the comment period. Written comments must be postmarked and electronic comments must be submitted on or before October 19, 2011. Commenters should be aware that the electronic Federal Docket Management System will not accept comments after Midnight Eastern Time on the last day of the comment period.

ADDRESSES: You may submit comments, by any of the following methods:

• Federal eRulemaking Portal: http//www.regulations.gov.

• FAX: (202) 514-1009. Send your comments to the attention of Caroline A. Smith.

• Mail: Caroline A. Smith, Office of Information Policy, U.S. Department of Justice, 1425 New York Ave, Suite 11050, Washington, DC 20530-0001.

To ensure proper handling, please reference OAG Docket No. 140 on your correspondence. See SUPPLEMENTARY INFORMATION for further instructions for submitting comments.

FOR FURTHER INFORMATION CONTACT: Caroline Smith ((202) 514-3642).

SUPPLEMENTARY INFORMATION:

Posting of Public Comments

Please note that all comments received are considered part of the public record and made available for public inspection online at http://www.regulations.gov. Such information includes personal identifying information (such as your name and address) voluntarily submitted by the commenter.

You are not required to submit personal identifying information in order to comment on this rule. Nevertheless, if you want to submit personal identifying information (such as your name and address) as part of your comment, but do not want it to be posted online, you must include the phrase “PERSONAL IDENTIFYING INFORMATION” in the first paragraph of your comment. You also must locate all the personal identifying information you do not want posted online in the first paragraph of your comment and identify what information you want redacted.

If you want to submit confidential business information as part of your comment but do not want it to be posted online, you must include the phrase “CONFIDENTIAL BUSINESS INFORMATION” in the first paragraph of your comment. You also must prominently identify confidential business information to be redacted within the comment. If a comment has so much confidential business information that it cannot be effectively redacted, all or part of that comment may not be posted on http://www.regulations.gov.

Personal identifying information and confidential business information identified and located as set forth above will be placed in the agency's public docket file, but not posted online. If you wish to inspect the agency's public docket file in person by appointment, please see the paragraph above entitled FOR FURTHER INFORMATION CONTACT.

Discussion

On March 21, 2011, the Department of Justice published a proposed rule revising its existing regulations under the FOIA. (See 76 FR 15236.) The rule proposed to amend the Department's regulations under the Freedom of Information Act (FOIA). The regulations will be revised to update and streamline the language of several procedural provisions, and to incorporate certain of the changes brought about by the amendments to the FOIA under the OPEN Government Act of 2007. Additionally, the regulations will be updated to reflect developments in the case law and to include current cost figures to be used in calculating and charging fees.

The Department received a number of comments while the comment period on the proposed rule was open, but has decided to reopen the comment period in order to ensure that it receives, reviews, and considers as wide a range of comments as possible. Accordingly, the Department is reopening the comment period and will accept comments for an additional 30 days after publication of this notice of proposed rulemaking.

Dated: September 12, 2011.
Eric H. Holder, Jr.,
Attorney General.

[FR Doc. 2011-23903 Filed 9-16-11; 8:45 am]

BILLING CODE 4110-BE-P